SECURITIES AND EXCHANGE COMMISSION

[Release No. 34-90430/November 13, 2020]

Order Setting Aside the Order by Delegated Authority Disapproving SR-NYSEArca-2018-02; In the Matter of NYSE Arca, Inc., 11 Wall St., New York, NY 10005; File No. SR-NYSEArca-2018-02

On January 4, 2018, NYSE Arca, Inc. (“NYSE Arca”) filed with the Securities and Exchange Commission (“Commission”), pursuant to Section 19(b)(1) of the Securities Exchange Act of 1934 (“Exchange Act”) ¹ and Rule 19b-4 thereunder,² a proposed rule change to list and trade shares of Direxion Daily Bitcoin Bear 1X Shares, Direxion Daily Bitcoin 1.25X Bull Shares, Direxion Daily Bitcoin 1.5X Bull Shares, Direxion Daily Bitcoin 2X Bull Shares, and Direxion Daily Bitcoin 2X Bear Shares under NYSE Arca Rule 8.200-E, Commentary .02. The proposed rule change was published for comment in the Federal Register on January 24, 2018.³ On March 1, 2018, pursuant to Section 19(b)(2) of the Exchange Act,⁴ the Division of Trading and Markets (“Division”), for the Commission pursuant to delegated authority, designated a longer period within which to approve the proposed rule change, disapprove the proposed rule change, or institute proceedings to determine whether to approve or disapprove the proposed rule change.⁵ On April 23, 2018, the Division, for the Commission pursuant to delegated authority, instituted proceedings under Section 19(b)(2)(B) of the Exchange Act ⁶ to determine whether to approve or disapprove the proposed rule change.⁷ On July 18, 2018, the Division, for the Commission pursuant to delegated authority, extended the period for consideration of the proposed rule change.⁸ On August 22, 2018, the Division, for the Commission pursuant to delegated authority,⁹ disapproved the proposed rule change.¹⁰

¹ 15 U.S.C. 78s(b)(1).

² 17 CFR 240.19b-4.

³ See Securities Exchange Act Release No. 82532 (Jan. 18, 2018), 83 FR 3380.

⁴ 15 U.S.C. 78s(b)(2).

⁵ See Securities Exchange Act Release No. 82795, 83 FR 9768 (Mar. 7, 2018).

⁶ 15 U.S.C. 78s(b)(2)(B).

⁷ See Securities Exchange Act Release No. 83094, 83 FR 18603 (Apr. 27, 2018).

⁸ See Securities Exchange Act Release No. 83661, 83 FR 35040 (July 24, 2018).

⁹ 17 CFR 200.30-3(a)(12).

¹⁰ See Securities Exchange Act Release No. 83912, 83 FR 43912 (Aug. 28, 2018) (“Delegated Order”).

On August 23, 2018, the Secretary of the Commission notified NYSE Arca that, pursuant to Commission Rule of Practice 431,¹¹ the Commission would review the Division's action pursuant to delegated authority and that the Division's action pursuant to delegated authority was stayed until the Commission orders otherwise.¹² On October 4, 2018, the Commission issued a scheduling order allowing the filing of additional statements.¹³

¹¹ 17 CFR 201.431.

¹² See Letter from Secretary, Commission, to Eugene Schlanger, Counsel, NYSE Group, Inc., dated Aug. 23, 2018, available at https://www.sec.gov/rules/sro/nysearca/2018/34-83912-letter-from-secretary.pdf.

¹³ See Securities Exchange Act Release No. 84370, 83 FR 51531 (Oct. 11, 2018).

On June 17, 2020, NYSE Arca withdrew the proposed rule change (SR-NYSEArca-2018-02).¹⁴

¹⁴ See letter from David De Gregorio, Senior Counsel, NYSE Arca, to Secretary, Commission, dated June 17, 2020, available at https://www.sec.gov/comments/sr-nysearca-2018-02/srnysearca201802-7415693-219417.pdf.

Under Commission Rule of Practice 431(a), the Commission may “affirm, reverse, modify, set aside or remand for further proceedings, in whole or in part, any action made pursuant to” delegated authority.¹⁵ We find that, in light of the NYSE Arca's withdrawal of the proposed rule change, it is appropriate to set aside the Delegated Order.

¹⁵ 17 CFR 201.431(a).

Accordingly, it is ordered that the August 22, 2018, order disapproving by delegated authority NYSE Arca's proposed rule change number SR-NYSEArca-2018-02, be, and it hereby is, set aside.

By the Commission.
J. Matthew DeLesDernier,
Assistant Secretary.

[FR Doc. 2020-25506 Filed 11-18-20; 8:45 am]

BILLING CODE 8011-01-P